DEPARTMENT OF THE INTERIOR

National Park Service

National Register of Historic Places; Notification of Pending Nominations and Related Actions

Nominations for the following properties being considered for listing or related actions in the National Register were received by the National Park Service before September 8, 2007. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax: 202-371-6447. Written or faxed comments should be submitted by October 9, 2007.

J. Paul Loether,
Chief, National Register of Historic Places/National Historic Landmarks Program.

ARIZONA

Maricopa County

Glendale Townsite—Catlin Court Historic District (Boundary Increase), Generally bounded by 55th Ave., 59th Ave., Palmaire Ave. and Orangewood Ave., Glendale, 07001088

OHIO

Greene County

Jamestown Opera House, 19 N. Limestone St., Jamestown, 07001093

Hamilton County

American Can Company Building, 4101 Spring Grove Ave., Cincinnati, 07001092

Montgomery County

Engineers Club of Dayton, 110 E. Monument Ave., Dayton, 07001091

Summit County

Cole Avenue Housing Project Historic District, 744 Colette Dr., Akron, 07001090

Hartong, Levi J., House and Farm, 6521 Mt. Pleasant Rd., Green, 07001089

TEXAS

Harris County

San Jacinto Street Bridge over Buffalo, Bayou San Jacinto St. at Buffalo, Bayou Houston, 07001098

Wilson County

Mueller Bridge, (Historic Bridges of Texas MPS) CR 337 over Cibolo Cr., La Vernia, 07001094

VERMONT

Franklin County

Billado Block, 371 Main St., Enosburg, 07001095

WISCONSIN

Dane County

First National Bank, 113 N. Main St., Oregon, 07001096

Oregon Water Tower and Pump House, 134 Janesville St., Oregon, 07001097

[FR Doc. E7-18724 Filed 9-21-07; 8:45 am]

BILLING CODE 4312-51-P